DEPARTMENT OF AGRICULTURE

Farm Service Agency

[Docket ID FSA-2022-0013]

Request for Information and Stakeholder Listening Sessions on Farm Labor Stabilization and Protection Pilot Program

AGENCY: Farm Service Agency, Department of Agriculture (USDA).

ACTION: Notice of request for information.

SUMMARY: The Farm Service Agency (FSA) is hosting three listening sessions for public input about a recently announced planned farm labor stabilization and protection pilot grant program focused on improving the resiliency of our food and agricultural supply chain by addressing current labor shortages in agriculture, reducing irregular migration through increased use of legal pathways, and improving labor protections for farmworkers. FSA is interested in input from agricultural employer organizations, labor unions, farmworker advocates, farmworkers, and other relevant stakeholders. We invite stakeholders to participate in the listening session that best aligns with the perspective they are able and willing to offer to FSA. All listening sessions will be posted publicly and open to the public for registration.

DATES: Registration: To attend any of the listening sessions, you must register by September 28, 2022.

Listening sessions:

• Employer organizations: September 28, 2022, 11 a.m. EST;

• Labor unions: September 28, 2022, 2 p.m. EST; and

• Farmworker advocacy organizations: September 29, 2 p.m. EST.

Comments: We will consider comments that we receive by October 24, 2022.

ADDRESSES:

Registration: To register, go to fsa.usda.gov/farmworkers.

Comments: We invite you to send comments in response to this notice. In addition, if you provide oral comments at the listening session, please also provide your comments in writing. Send your comments through the method below:

• Federal eRulemaking Portal: Go to https://www.regulations.gov and search for Docket ID FSA-2022-0013. Follow the instructions for submitting comments.

All written comments received will be publicly available on www.regulations.gov.

FOR FURTHER INFORMATION CONTACT: Linda Cronin, phone (202) 692-4928 or email: linda.cronin@usda.gov or FSAOutreach@usda.gov. Persons with disabilities who require alternative means for communication should contact the USDA Target Center at (202) 720-2600 (voice).

SUPPLEMENTARY INFORMATION: FSA is hosting three listening sessions for public input about a recently announced planned farm labor stabilization and protection pilot grant program focused on improving the resiliency of our food and agricultural supply chain by addressing current labor shortages in agriculture, reducing irregular migration through increased use of legal pathways, and improving labor protections for farmworkers. The farm labor stabilization and protection pilot grant program will use up to $65 million in American Rescue Plan Act funding to provide support for agricultural employers to hire seasonal workers from the northern Central American countries Guatemala, Honduras, and El Salvador and implement robust labor standards to promote a safe, healthy work environment for both U.S. workers and workers hired under the seasonal H-2A visa program. The H-2 category allows U.S. employers to bring noncitizens into the U.S. on temporary agricultural (H-2A) visas.

FSA is interested in input from agricultural employer organizations, labor unions, farmworker advocates, farmworkers, and other relevant stakeholders. From agricultural employer organizations, FSA is interested in understanding the challenges that employers face in securing a stable workforce; the incentives employers seek from the U.S. Department of Agriculture (USDA) in order to hire workers from northern Central American countries under the seasonal H-2A visa program; and the enhanced labor standards that employers are willing to accept in order to receive USDA support to stabilize the workforce. From labor unions and the broader farmworker advocacy community, FSA is interested in understanding the scope and set of robust worker protections, along with the best methods for verification of those protections, that will help improve labor standards and promote a safer, healthier work environment for both U.S. workers and workers hired from northern Central American countries under the seasonal H-2A visa program as well as the challenges workers currently face in accessing those protections and proposed solutions within statutory authority. Questions for each of the groups are provided below. We invite stakeholders to participate in the listening session that best aligns with the perspective they are able and willing to offer to FSA.

All listening sessions will be posted publicly and open to the public for registration.

The listening sessions will provide an opportunity for stakeholders and interested members of the public to share their thoughts about how FSA can best support agricultural employers in meeting their labor needs, while improving worker protections for both U.S. and H-2A workers.

Each listening session will begin with brief opening remarks from USDA officials. Individual speakers providing oral comments will be limited to 5 minutes each; however, if all speakers can be accommodated within the allotted time for the listening session, individual speaking times may be adjusted at the written request of the stakeholder (see the FOR FURTHER INFORMATION CONTACT section above). As noted above, we request that speakers providing oral comments also provide a written copy of their comments by October 24, 2022. All stakeholders and interested members of the public are welcome to register to provide oral and written comments; however, based on the listening session time or topic area constraints, FSA may not be able to allocate time for all registered attendees to provide oral comments during the listening sessions.

The purpose of the listening sessions is for FSA to hear from agricultural employer organizations, labor unions, farmworker advocacy organizations, farmworkers, and other interested members of the public. In your comments, provide your input about the farm labor stabilization and protection pilot grant program, changes, and anything else that may be helpful for FSA to be aware of or consider. We welcome public input that we can factor into decisions that need to be made to implement the provisions of the farm labor stabilization and protection pilot grant program.

Date | Time | Link
September 28, 2022 | 11 a.m. EST | fsa.usda.gov/farmworkers.
September 28, 2022 | 2 p.m. EST | fsa.usda.gov/farmworkers.
September 29, 2022 | 2 p.m. EST | fsa.usda.gov/farmworkers.

FSA is interested in all comments but requests input from key stakeholders on specific topics.

The following are questions for agricultural employers:

1. What barriers and challenges do agricultural employers currently face in accessing the H-2A visa program? What specific barriers and challenges do agricultural employers face in hiring workers from northern Central America?

2. Do agricultural employers have specific feedback on the housing components of the H-2A visa program? What challenges do you face related to housing?

3. What incentives are employers seeking from USDA to improve their ability to hire workers from northern Central American countries under the seasonal H-2A visa program?

4. What enhanced worker protections and labor standards are employers willing to accept in order to receive USDA support to stabilize the workforce? What mechanisms would be helpful in achieving these enhanced protections and standards?

5. What suggestions do you have to help ensure compliance for any additional standards required by recipients of grants as part of this farm labor stabilization and protection pilot grant program?

The following are questions for labor unions:

1. What barriers or challenges do farmworkers, specifically those in northern Central American countries, face in participating in the H-2A visa program?

2. What do you recommend to enhance farmworker protections, including during recruitment and employment? What methods do you recommend for enforcement and verification of those protections that will promote a safer, healthier work environment for both U.S. workers and workers hired from northern Central American countries under the seasonal H-2A visa program?

3. What suggestions do you have to help ensure compliance for any additional standards required by recipients of grants as part of this farm labor stabilization and protection pilot grant program?

4. What recommendations do you have to increase farmworker awareness of their resources and worker rights both for workers within the United States and for H-2A visa holders in their country of origin?

The following are questions for farmworker advocacy organizations:

1. What barriers or challenges do farmworkers, specifically those in northern Central American countries, face in participating in the H-2A visa program?

2. What do you recommend to enhance farmworker protections, including during recruitment and employment? What methods do you recommend for enforcement and verification of those protections that will promote a safer, healthier work environment for both U.S. workers and workers hired from northern Central American countries under the seasonal H-2A visa program?

3. What suggestions do you have to help ensure compliance for any additional standards required by recipients of grants as part of this farm labor stabilization and protection pilot grant program?

4. What recommendations do you have to increase farmworker awareness of their resources and worker rights both for workers within the United States and for H-2A visa holders in their country of origin?

Instructions for Attending the Meeting

All persons wishing to attend the listening session must register at fsa.usda.gov/farmworkers by September 28, 2022. To register, information will be required including:

• Attendee contact information (email and phone number);

• Organization representative information (organization name and representative's title within the organization); and

• If you would like to speak, provide written comments.

All written comments received will be publicly available on www.regulations.gov.

If you require special accommodations, such as a sign language interpreter, use the contact information above. The listening session location is accessible to persons with disabilities.

Meeting Accommodation Request

Instructions for registering for this meeting can be obtained by contacting Linda Cronin by or before the deadline.

If you are a person requiring reasonable accommodation, please make requests in advance for sign language interpretation, assistive listening devices, or other reasonable accommodation, including language translation, to Linda Cronin as identified in the FOR FURTHER INFORMATION CONTACT section above. Determinations for reasonable accommodation will be made on a case-by-case basis.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Persons with disabilities who require alternative means of communication for program information (for example, braille, large print, audiotape, American Sign Language, etc.) should contact the responsible Agency or USDA TARGET Center at (202) 720-2600 (voice and TTY) or (844) 433-2774 (toll-free nationwide). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

William Marlow,
Acting Administrator, Farm Service Agency.

[FR Doc. 2022-20677 Filed 9-21-22; 8:45 am]

BILLING CODE 3411-E2-P